DEPARTMENT OF HEALTH AND HUMAN SERVICES

Food and Drug Administration

21 CFR Part 811

[Docket No. 99N-4955]

Amendment of Various Device Regulations to Reflect Current American Society for Testing and Materials Citations, Confirmation in Part and Technical Amendment; Correction

AGENCY: Food and Drug Administration, HHS.

ACTION: Direct final rule; correction.

SUMMARY: The Food and Drug Administration (FDA) is correcting a document that appeared in the Federal Register of July 18, 2000 (65 FR 44435). The document confirmed, in part, the direct final rule amending certain references in various medical devices regulations. The document was published with an incorrect Federal Register page reference. This document corrects that error.

DATES: Effective August 24, 2000.

FOR FURTHER INFORMATION CONTACT: LaJuana D. Caldwell, Office of Policy (HF-27), Food and Drug Administration, 5600 Fishers Lane, Rockville, MD 20857, 301-827-7010.

SUPPLEMENTARY INFORMATION: In FR Doc. 00-18082 appearing on page 44435 in the Federal Register of Tuesday, July 18, 2000, the following correction is made:

1. On page 44435, in the 2d column, under the DATES and the SUPPLEMENTARY INFORMATION captions, the phrase “January 24, 2000 (65 FR 3627)” is corrected to read “January 24, 2000 (65 FR 3584)”.

Dated: August 15, 2000.
Margaret M. Dotzel,
Associate Commissioner for Policy.

[FR Doc. 00-21562 Filed 8-23-00; 8:45 am]

BILLING CODE 4160-01-F